DEPARTMENT OF VETERANS AFFAIRS

VETERANS' ADVISORY COMMITTEE ON EDUCATION; NOTICE OF MEETING

The Department of Veterans Affairs (VA) gives notice under Public Law 92-463 (Federal Advisory Committee Act) that the Veterans' Advisory Committee on Education will meet on Monday, July 26, 2004, from 8:30 a.m. to 10 a.m.; Tuesday, July 27, 2004, from 8:30 a.m. to 4 p.m.; and Wednesday, July 28, 2004, from 8:30 a.m. to 11 a.m. The meeting will be held at the Roosevelt Hotel, Conference Level, Riverside Room, Madison Avenue at 45th Street, New York, New York. The meeting is open to the public.

The purpose of the Committee is to advise the Secretary of Veterans Affairs on the administration of education and training programs for veterans and servicemembers, reservists, and dependents of veterans under Chapters 30, 32, 35, and 36 of Title 38 and Chapter 1606 of Title 10, United States Code.

On July 26, the Committee will host a town hall-style meeting with VA Education Liaison Representatives, certifying officials, veteran students, and State Approving Agency Directors. On July 27, the meeting will begin with opening remarks and an overview by Mr. James Bombard, Committee Chair. In addition, this session will include discussions on pending and new legislation, and briefings from subcommittees on accelerated payment issues, the Veterans' Education Outreach Program, Chapter 1606 restructuring, and other Chapter 1606 reserve issues. On July 28, the Committee will review and summarize issues addressed during this meeting.

Interested parties may file written statements to the Committee before the meeting, or within 10 days after the meeting, with Mr. Stephen Dillard, Designated Federal Officer, Department of Veterans Affairs, Veterans Benefits Administration (225B), 810 Vermont Avenue, NW, Washington, DC 20420. Oral statements will be heard on Wednesday, July 28, 2004, at 9:15 a.m. Any member of the public wishing to attend the meeting should contact Mr. Stephen Dillard or Mr. Michael Yunker at (202) 273-7187.

Dated: June 24, 2004.
E. Philip Riggin,
Committee Management Office.

[FR Doc. 04-15138 Filed 7-2-04; 8:45 am]

BILLING CODE 8320-01-M